DEPARTMENT OF ENERGY

Energy Information Administration

Agency Information Collection Activities: Proposed Collection; Comment Request

AGENCY: Energy Information Administration, DOE.

ACTION: Agency information collection activities: Proposed collection; comment request.

SUMMARY: The Energy Information Administration (EIA) is soliciting comments on the proposed extension with revisions to the Form EIA-886, “Alternative Transportation Fuels and Alternative Fueled Vehicles Annual Survey.”

DATES: Written comments must be submitted on or before July 31, 2000. If you anticipate difficulty in submitting comments within that period, contact the person listed below as soon as possible.

ADDRESSES: Send comments to Jorge Luna-Camara, Energy Information Administration, EI-52, Forrestal Building, U.S. Department of Energy, Washington, DC 20585. Mr Luna-Camara may be reached by phone at (202) 426-1170; by e-mail jcluna@eia.doe.gov, or by FAX (202)426-1929.

FOR FURTHER INFORMATION CONTACT: Requests for additional information or copies of the form and instructions should be directed to (name of contact listed above) at the address listed above.

SUPPLEMENTARY INFORMATION:

I. Background

II. Current Actions

III. Request for Comments

I. Background

The Federal Energy Administration Act of 1974 (Pub. L. No. 93-275, 15 U.S.C. 761 et seq.) and the Department of Energy Organization Act (Pub. L. No. 95-91, 42 U.S.C. 7101 et seq.) require the Energy Information Administration (EIA) to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data requests that maximize the utility of the information collected, and to assess the impact of collection requirements on the public.

This form is used to gather information on the supply of “alternative fueled vehicles” (AFV's). Specifically, the Form EIA-886 collects data annually on the number of AFV's which suppliers “made available” in the previous calendar year, and the number of AFV's which suppliers plan to “make available” in the following calendar year. Additionally, the EIA collects data from Federal Agencies, State and Local Governments, Fuel Providers, Transit Authorities, and School Districts; on the number of AFV's in use and their “alternate transportation fuel” (ATF) consumption. These data will be published annually in the Alternative to Traditional Transportation Fuel publication. The data will also be available through the EIA home page at http://www.eia.doe.gov.

II. Current Actions

The EIA requests a three-year extension through April 30, 2004. Changes to the form are mainly to simplify and/or clarify the reporting of data. No additional data items are requested for collection. All voluntary data, including the vehicle identification number (VIN), will no longer be collected.

III. Request for Comments

Prospective respondents and other interested parties should comment on the actions discussed in item II. The following guidelines are provided to assist in the preparation of comments.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent

A. Are the instructions and definitions clear and sufficient? If not, which instructions need clarification?

B. Can the information be submitted by the due date?

C. With the proposed changes, public reporting burden for this collection is estimated to average approximately three hours for the AFV providers part of the form or the AFV users part of the form. However, there may be some respondents which would be both (AFV providers as well as AFV users). For these respondents, the EIA estimates an average of approximately five hours per response. Burden includes the total time, effort, or financial resources expended to generate, maintain, retain, disclose, or provide the information. Please comment on the accuracy of the estimate.

D. The agency estimates that the only costs to the respondents are for the time it will take them to complete the collection. Please comment if respondents will incur start-up costs for reporting, or any recurring annual costs for operation, maintenance, and purchase of services associated with the information collection.

E. What additional actions could be taken to minimize the burden of this collection of information? Such actions may involve the use of automated, electronic, mechanical, or other technological collection techniques or other forms of information technology.

F. Does any other Federal, State, or local agency collect similar information? If so, specify the agency, the data element(s), and the methods of collection.

As a Potential User

A. Is the information useful at the levels of detail indicated on the form?

B. For what purpose(s) would the information be used? Be specific.

C. Are there alternate sources for the information and are they useful? If so, what are their weaknesses and/or strengths?

Comments submitted in response to this notice will be summarized and/or included in the request for OMB approval of the form. They also will become a matter of public record.

Authority: Sections 3507(h)(i) and 3506(c) of the Paperwork Reduction Act of 1995 (Pub. L. No. 104-13, 44 U.S.C. Chapter 35).

Issued in Washington, DC, May 24, 2000.
Jay H. Casselberry.
Agency Clearance Officer, Statistics and Methods Group.

[FR Doc. 00-13526 Filed 5-30-00; 8:45 am]

BILLING CODE 6450-01-P